DEPARTMENT OF DEFENSE

[OMB Control Number 0704-0187]

Information Collection Requirement; Defense Federal Acquisition Regulation Supplement; DoD Acquisition Process (Solicitation Phase)

AGENCY: Department of Defense (DoD).

ACTION: Notice and request for comments regarding a proposed extension of an approved information collection requirement.

SUMMARY: In compliance with section 3506(c)(2)(A) of the Paperwork Reduction Act of 1995 (44 U.S.C. Chapter 35), DoD announces the proposed extension of a public information collection requirement and seeks public comment on the provisions thereof. DoD invites comments on: (a) Whether the proposed collection of information is necessary for the proper performance of the functions of DoD, including whether the information will have practical utility; (b) the accuracy of the estimate of the burden of the proposed information collection; (c) ways to enhance the quality, utility, and clarity of the information to be collected; and (d) ways to minimize the burden of the information collection on respondents, including the use of automated collection techniques or other forms of information technology. The Office of Management and Budget (OMB) has approved this information collection requirement for use through December 31, 2002. DoD proposes that OMB extend its approval for 3 additional years.

DATES: DoD will consider all comments received by September 10, 2002.

ADDRESSES: Respondents may submit comments directly on the World Wide Web at http://emissary.acq.osd.mil/dar/dfars.nsf/pubcomm. As an alternative, respondents may e-mail comments to: dfars@acq.osd.mil. Please cite OMB Control Number 0704-0187 in the subject line of e-mailed comments.

Respondents that cannot submit comments using either of the above methods may submit comments to: Defense Acquisition Regulations Council, Attn: Ms. Amy Williams, OUSD(AT&L)DP(DAR), IMD 3C132, 3062 Defense Pentagon, Washington, DC 20301-3062; facsimile (703) 602-0350. Please cite OMB Control Number 0704-0187.

At the end of the comment period, interested parties may view public comments on the World Wide Web at http://emissary.acq.osd.mil/dar/dfars.nsf.

FOR FURTHER INFORMATION CONTACT: Ms. Amy Williams, (703) 602-0328. The information collection requirement addressed in this notice is available electronically on the World Wide Web at: http://www.acq.osd.mil/dp/dars/dfars.html. Paper copies are available from Ms. Amy Williams, OUSD(AT&L)DP(DAR), IMD 3C132, 3062 Defense Pentagon, Washington, DC 20301-3062.

SUPPLEMENTARY INFORMATION:

Title and OMB Number: Information Collection in Support of the DoD Acquisition Process (Solicitation Phase), OMB Control Number 0704-0187.

Needs and Uses: This information collection requirement pertains to information that an offeror must submit to DoD in response to a request for proposals or an invitation for bids. DoD uses this information to evaluate offers; determine whether the offered price is fair and reasonable; and determine which offeror to select for contract award. DoD also uses this information in determining whether to provide precious metals as Government-furnished material; whether to accept alternate preservation, packaging, or packing; and whether to trade in existing personal property toward the purchase of new items.

Affected Public: Businesses or other for-profit and not-for-profit institutions.

Annual Burden Hours: 9,870,858.

Number of Respondents: 161,355.

Responses Per Respondent: Approximately 12.

Annual Responses: 1,954,238.

Average Burden Per Response: 5.05 hours.

Frequency: On occasion.

Summary of Information Collection

This information collection pertains to information, not separately covered by another OMB clearance, that an offeror must submit to DoD in response to a request for proposals or an invitation for bids. In particular, the information collection covers the following DFARS requirements:

• 217.70, Exchange of Personal Property. Section 217.7004, paragraph (a), of this subpart requires that solicitations that contemplate exchange (trade-in) of personal property, and application of the exchange allowance to the acquisition of similar property, must include a request for offerors to state prices for the new items being acquired both with and without any exchange allowance.

• 217.72, Bakery and Dairy Products. Section 217.7201, paragraph (b)(2), of this subpart requires a contractor's list of cabinet equipment in the Schedule of the contract, when the contractor is required to furnish its own cabinets for dispensing milk from bulk containers.

• 217.74, Undefinitized Contract Actions. Unless an exception in 217.7404-5 of this subpart applies, paragraph (b) of 217.7404-3 requires the contractor to submit a qualifying proposal in accordance with the definitization schedule of the undefinitized contract action. A “qualifying proposal” is defined in paragraph (c) of 217.7401 as a proposal containing sufficient information for DoD to do complete and meaningful analyses and audits of the information in the proposal and any other information that the contracting officer has determined that DoD needs to review in connection with the contract.

• 217.75, Acquisition of Replenishment Parts. Paragraph (d) of 217.7504 of this subpart permits contracting officers to include, in sole-source solicitations for replenishment parts, a provision requiring an offeror to supply, with its proposal, price and quantity data on any Government orders for the replenishment part issued within the most recent 12 months.

• 252.208-7000, Intent to Furnish Precious Metals as Government-Furnished Material. Paragraph (b) of this clause requires an offeror to cite the type and quantity of precious metals required in the performance of the contract. Paragraph (c) requires the offeror to submit two prices for each deliverable item that contains precious metals: one based on the Government furnishing the precious metals, and the other based on the contractor furnishing the precious metals.

• 252.209-7001, Disclosure of Ownership or Control by the Government of a Terrorist Country. Paragraph (c) of this provision requires an offeror to provide a disclosure with its offer if the government of a terrorist country has a significant interest in the offeror, in a subsidiary of the offeror, or in a parent company of which the offeror is a subsidiary.

• 252.211-7004, Alternate Preservation, Packaging, and Packing. Paragraph (b) of this provision requires an offeror to submit information sufficient to allow evaluation of any alternate preservation, packaging, or packing proposed by the offeror.

• 252.226-7000, Notice of Historically Black College or University and Minority Institution Set-Aside. Paragraph (c)(2) of this clause requires that, upon request of the contracting officer, the offeror will provide evidence prior to award that the Secretary of Education has determined the offeror to be a historically black college or university or minority institution.

• 252.237-7000, Notice of Special Standards of Responsibility. Paragraph (c) of this provision requires the apparently successful offeror, under a solicitation for audit services, to give the contracting officer evidence that it is licensed by the cognizant licensing authority in the State or other political jurisdiction where the offeror operates its professional practice.

Michele P. Peterson,
Executive Editor, Defense Acquisition Regulations Council.

[FR Doc. 02-17522 Filed 7-11-02; 8:45 am]

BILLING CODE 5001-08-P